DEPARTMENT OF THE INTERIOR

National Park Service

Notice of Availability of the Draft General Management Plan and Draft Environmental Impact Statement for Pea Ridge National Military Park, AR

AGENCY: National Park Service.

SUMMARY: Pursuant to section 102(2)(C) of the National Environmental Policy Act of 1969, the National Park Service (NPS) announces the availability of the draft general management plan and environmental impact statement (GMP/EIS) for Pea Ridge National Military Park (Park).

DATES: The GMP/EIS will remain available for public review for 60 days following the publishing of the notice of availability in the Federal Register by the Environmental Protection Agency. Public meetings will be held at the Park visitor center, Arkansas. Meeting places and times will be announced through the local media and on the Park Web site at: http://www.nps.gov.gov/peri.

ADDRESSES: Copies of the GMP/EIS are available by request by writing to the superintendent at Pea Ridge National Military Park, 15930 Highway 62, Garfield, Arkansas, 72732. The document is also available to be reviewed in person at park headquarters with an appointment, which can be scheduled at 479-451-8122. Finally, the document can be found on the Internet at: http://parkplanning.nps.gov/. This Web site allows the public to review and comment directly on this document.

FOR FURTHER INFORMATION CONTACT: Superintendent, Pea Ridge National Military Park, 15930 Highway 62, Garfield, Arkansas, 72732.

SUPPLEMENTARY INFORMATION: The Park is a unit of the national park system and was established to commemorate the national significance of the Battle of Pea Ridge, the largest Civil War battle fought west of the Mississippi. The Park protects and preserves nearly 90 percent of the actual battlefield.

The draft GMP/EIS describes and analyzes the environmental impacts of the proposed management action (preferred alternative) and two other action alternatives for the future management direction of the Park, including the impacts of the boundary modifications. A no-action management alternative is also evaluated.

Persons wishing to comment may do so by any one of several methods. They may attend the public meetings noted above. They may mail comments to the Pea Ridge Planning Team, National Park Service, Denver Service Center, P.O. Box 25287, Denver, Colorado 80225. They also may comment via the Internet at http://parkplanning.nps.gov/. Finally, they may hand-deliver comments to the Pea Ridge National Military Park headquarters at 15930 Highway 62, Garfield, Arkansas, 72732.

Our practice is to make comments, including names and home addresses of respondents, available for public review. Individual respondents may request that we withhold their home address from the record, which we will honor to the extent allowable by law. There may also be circumstances where we would withhold from the record a respondent's identity, as allowable by law. If you wish us to withhold your name and/or address, you must state this prominently at the beginning of your comment. However, we will not consider anonymous comments. We will make all submissions from organizations or businesses, and from individuals identifying themselves as representatives or officials or organizations or businesses, available for public inspection in their entirety.

The responsible official is Ernest Quintana, Regional Director, Midwest Region.

Dated: October 20, 2005.
Ernest Quintana,
Regional Director, Midwest Region.

[FR Doc. 05-23382 Filed 11-28-05; 8:45 am]

BILLING CODE 4312-BY-P